DEPARMENT OF COMMERCE

National Telecommunications and Information Administration

Recruitment of First Responder Network Authority Board of Directors

AGENCY: National Telecommunications and Information Administration, U.S. Department of Commerce.

ACTION: Notice.

SUMMARY: Pursuant to the Middle Class Tax Relief and Job Creation Act of 2012 (“the Act”), Public Law 112-96, 126 Stat. 156 (2012), the National Telecommunications and Information Administration (NTIA) announces the recruitment of the Board of Directors of the First Responder Network Authority (FirstNet). The Act created FirstNet as an independent authority within NTIA that will establish a single nationwide, interoperable public safety broadband network. The Board of Directors will be responsible for making strategic decisions regarding FirstNet's operations. Expressions of interest for membership on the FirstNet Board of Directors will be accepted until May 25, 2012.

DATES: Expressions of interest must be postmarked or electronically transmitted on or before May 25, 2012.

ADDRESSES: Persons wishing to submit expressions of interest as described below should send that information to: Jim Wasilewski, Deputy Chief of Staff, by email to FirstNetBoard@ntia.doc.gov; by U.S. mail or commercial delivery service to: Office of the Assistant Secretary, National Telecommunications and Information Administration, 1401 Constitution Avenue NW., Room 4898, Washington, DC 20230; or by facsimile transmission to (202) 501-0536.

FOR FURTHER INFORMATION CONTACT: Jim Wasilewski, National Telecommunications and Information Administration, 1401 Constitution Avenue NW., Room 4898, Washington, DC 20230, (202) 482-1840, jwasilewski@ntia.doc.gov.

SUPPLEMENTARY INFORMATION:

I. Background and Authority

Title VI of the Act provides 20 megahertz of spectrum and $7 billion to establish a single nationwide, interoperable public safety broadband network. It also establishes FirstNet as an independent authority within NTIA to build, deploy, and operate the network and to hold the single public safety license granted for wireless public safety broadband deployment.¹ The Act also sets forth the structure of FirstNet's Board of Directors.² Under the Act, the Board will be responsible for making strategic decisions regarding FirstNet's operations and ensuring the success of Congress's vision for the network. The Act requires that the Board be established no later than August 20, 2012.

¹ See Middle Class Tax Relief and Job Creation Act of 2012 § 6201, Public Law 112-96, 126 Stat. 156 (2012).

² Id. § 6204(a).

II. Structure

The FirstNet Board of Directors will be composed of 15 individuals.³ The Act names the Secretary of Homeland Security, the Attorney General, and the Director of the Office of Management and Budget as permanent members of the Board.⁴ The Secretary of Commerce will select the remaining 12 members.⁵ Each Board member must have expertise in at least one of the following substantive areas: Public safety, technical, network, and financial.⁶ In addition, three Board members must represent the collective interests of states, localities, tribes, and territories; three Board members must have served as public safety professionals; and the Board as a whole should reflect geographical and regional diversity as well as rural and urban representation.⁷

³ Id. § 6204(b).

⁴ Id. § 6204(b)(1).

⁵ Id. § 6204(b)(1)(d).

⁶ Id. § 6204(b)(2)(B)(i).

⁷ Id. § 6204(b)(2)(A).

Responsibilities of the Board will include creating the over-arching strategic framework for the public safety network, ensuring nationwide standards for use and access to the network based on commercial standards, working to deliver economies of scale for public safety, maximizing opportunities for long-term cost savings and improved functionality, integrating federal first responders and public-safety-related uses to maximize the efficiency of the new network, and formulating a fee collection system to ensure FirstNet self-sustainability.

III. Compensation and Status as Government Employees

FirstNet Board members will be appointed as federal government employees. FirstNet Board members will be compensated at the daily rate of basic pay for level IV of the Executive Schedule (approximately $155,000 per year).⁸ Each Board member must be a United States citizen, cannot be a registered lobbyist, and cannot be a registered agent of, employed by, or receive payments from, a foreign government. The Board will meet at the call of the Chair and not less than once each quarter. Initial Board members will serve one, two, or three year terms. Subsequent Board members will be appointed for a term of three years, and Board members may not serve more than two consecutive terms.

⁸ Id. § 6204(g)(1).

IV. Financial Disclosure and Conflicts of Interest

FirstNet Board members will be required to comply with certain federal conflict of interest statutes and ethics regulations, including some financial disclosure requirements. FirstNet Board members will generally be prohibited from participating on any particular matter that will have a direct and predictable effect on his or her personal financial interests or on the interests of the appointee's spouse, minor children, or non-Federal employer.

V. Selection Process

At the direction of the Secretary of Commerce, NTIA has been conducting outreach to the public safety community and industry to solicit nominations for candidates to the Board who satisfy the statutory requirements for membership. In addition, by this Notice, the Secretary of Commerce, through NTIA, will accept expressions of interest from any individual or organization who wishes to propose a candidate. All parties wishing to be considered should submit their full name, address, telephone number, email address, a current resume, and a statement of qualifications referencing the Act's eligibility requirements as described in this Notice.

The Secretary of Commerce will select FirstNet Board candidates based on the eligibility requirements in the Act and input and recommendations from NTIA. Board candidates will be evaluated based on their ability to contribute to the goals and objectives of FirstNet as set forth in the Act. Board candidates will be vetted through the Department of Commerce. FirstNet Board candidates may be subject to an appropriate background check for security clearance.

Dated: May 7, 2012.
Lawrence E. Strickling,
Assistant Secretary for Communications and Information.

[FR Doc. 2012-11283 Filed 5-9-12; 8:45 am]

BILLING CODE 3510-60-P